DEPARTMENT OF COMMERCE

Foreign-Trade Zones Board

[S-15-2019]

Approval of Expanded Subzone Status; Tesla, Inc., Livermore, California

On February 12, 2019, the Executive Secretary of the Foreign-Trade Zones (FTZ) Board docketed an application submitted by the City of San Jose, grantee of FTZ 18, requesting expanded subzone status subject to the existing activation limit of FTZ 18, on behalf of Tesla, Inc., in Livermore, California.

The application was processed in accordance with the FTZ Act and Regulations, including notice in the Federal Register inviting public comment (84 FR 4767-4768, February 19, 2019). The FTZ staff examiner reviewed the application and determined that it meets the criteria for approval. Pursuant to the authority delegated to the FTZ Board Executive Secretary (15 CFR Sec. 400.36(f)), the application to expand Subzone 18G was approved on April 2, 2019, subject to the FTZ Act and the Board's regulations, including Section 400.13, and further subject to FTZ 18's 2,000-acre activation limit.

Dated: April 2, 2019.
Andrew McGilvray,
Executive Secretary.

[FR Doc. 2019-06859 Filed 4-5-19; 8:45 am]

BILLING CODE 3510-DS-P